Title 3—

The President

Notice of February 10, 2023

Continuation of the National Emergency Concerning the Coronavirus Disease 2019 (COVID-19) Pandemic

On March 13, 2020, by Proclamation 9994, the President declared a national emergency concerning the coronavirus disease 2019 (COVID-19) pandemic. Today, we are in a different phase of the response to that pandemic than we were in March of 2020, and my Administration is planning for an end to the national emergency, but an orderly transition is critical to the health and safety of the Nation. For this reason, the national emergency declared on March 13, 2020, and beginning March 1, 2020, must continue in effect beyond March 1, 2023. Therefore, in accordance with section 202(d) of the National Emergencies Act (50 U.S.C. 1622(d)), I am continuing the national emergency declared in Proclamation 9994 concerning the COVID-19 pandemic. I anticipate terminating the national emergency concerning the COVID-19 pandemic on May 11, 2023.

This notice shall be published in the Federal Register and transmitted to the Congress.

THE WHITE HOUSE,

February 10, 2023.

[FR Doc. 2023-03218

Filed 2-13-23; 8:45 am]

Billing code 3395-F3-P